DEPARTMENT OF VETERANS AFFAIRS

Research Advisory Committee on Gulf War Veterans' Illnesses; Notice of Meeting

The Department of Veterans Affairs (VA) gives notice under the Federal Advisory Committee Act, 5 U.S.C. App.2 that the Research Advisory Committee on Gulf War Veterans' Illnesses will meet on September 22 and 23, 2014, in the greater Washington, DC, area. On Monday, September 22, the meeting will be held in 810 Vermont Avenue NW., Room 230, Washington, DC, from 9:00 a.m. until 5:15 p.m. On Tuesday, September 23, the meeting will be held at the VHA National Conference Center, 2011 Crystal Drive, Suite 150, Arlington, Virginia from 9:00 a.m. until 1:00 p.m. All sessions will be open to the public, although space will be limited on September 23. For interested parties who cannot attend in person, there will be a toll-free telephone number.

The purpose of the Committee is to provide advice and make recommendations to the Secretary of Veterans Affairs on proposed research studies, research plans, and research strategies relating to the health consequences of military service in the Southwest Asia theater of operations during the Gulf War.

The Committee will review VA program activities related to Gulf War Veterans' illnesses, and updates on relevant scientific research published since the last Committee meeting. Presentations on September 22 will include updates on the VA Gulf War Research Program, followed by research presentations on a treatment for pain, neuroimaging in Gulf War Veterans, and drug trials in animal models. The Committee will devote September 23 to a discussion of Committee activities.

The meeting will include time reserved for public comments on both days in the afternoon. A sign-up sheet for 5-minute comments will be available at the meeting. Individuals who wish to address the Committee may submit a 1-2 page summary of their comments for inclusion in the official meeting record. Members of the public may also submit written statements for the Committee's review to Dr. Roberta White at rwhite@bu.edu.

Because the meeting is being held in a government building, a photo I.D. must be presented as part of the clearance process. Therefore, any person attending should allow an additional 15 minutes to complete this process before the meeting begins. Any member of the public seeking additional information should contact Dr. White, Scientific Director, at (617) 638-4620 or Dr. Victor Kalasinsky, Designated Federal Officer, at (202) 443-5682.

Dated: August 25, 2014.
Rebecca Schiller,
Committee Management Officer.

[FR Doc. 2014-20484 Filed 8-27-14; 8:45 am]

BILLING CODE P